DEPARTMENT OF TRANSPORTATION

Federal Aviation Administration

14 CFR Part 71

[Docket No. FAA-2008-0187; Airspace Docket No. 07-ASO-27]

Modification of Area Navigation Route Q-110 and Jet Route J-73; Florida

AGENCY: Federal Aviation Administration (FAA), DOT.

ACTION: Final rule.

SUMMARY: This action extends the length of Area Navigation (RNAV) route Q-110 and makes a minor realignment of jet route J-73 in Florida. These modifications support the Florida West Coast Airspace Redesign project. The extension of Q-110 provides an RNAV route for use by aircraft transitioning between Miami Air Route Traffic Control Center (ARTCC) and Jacksonville ARTCC airspace. The extension also assists aircraft in circumnavigating military airspace associated with the Avon Park Air Force Range. The realignment of J-73 provides space for the Q-110 extension. The FAA is taking this action to enhance the safe and the efficient use of the navigable airspace in the western Florida area.

DATES: Effective Date: 0901 UTC, September 25, 2008. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On April 17, 2008, the FAA published in the Federal Register a notice of proposed rulemaking (NPRM) to modify Q-110 and J-73 in western Florida (73 FR 20844) Airspace Docket No. FAA-2008-0187. Interested parties were invited to participate in this rulemaking effort by submitting written comments on this proposal to the FAA. No comments were received in response to the proposal.

In the notice of proposed rulemaking, the FAA indicated its intent to make an administrative change to the order of the points listed in the route description of Q-110. However, to be consistent with flight inspection documentation for Q-110, other than adding the three new points for the route extension, the order of the listing of points will not be changed. This has no effect on the alignment or charting of Q-110.

Jet routes are published in paragraph 2004, and high altitude RNAV routes are published in paragraph 2006, of FAA Order 7400.9R signed August 15, 2007, and effective September 15, 2007, which is incorporated by reference in 14 CFR 71.1. The jet route and RNAV route listed in this document will be published subsequently in the Order.

The Rule

This action amends Title 14 Code of Federal Regulations (14 CFR) part 71 by extending the length of RNAV route Q-110 and realigning jet route J-73 in western Florida. RNAV route Q-110 is extended southeastward from KPASA, FL (located near Lakeland, FL) to the THNDR, FL, intersection (located about midway between Fort Myers and West Palm Beach, FL), adding approximately 115 nautical miles (NM) to the length of the route. The Q-110 extension provides an RNAV route for use by aircraft transitioning between Miami ARTCC and Jacksonville ARTCC airspace and assists aircraft in circumnavigating military airspace associated with the Avon Park Air Force Range.

Additionally, the segment of jet route J-73 between the LaBelle, FL, very high frequency omnidirectional range/tactical navigation aid (VORTAC) and the Lakeland, FL, VORTAC is realigned by inserting an intermediate point formed by the intersection of the LaBelle 314 ° True (T) radial and the Lakeland 162 ° T radial. Shifting J-73 in this manner provides airspace to accommodate the Q-110 extension.

The FAA is taking this action to enhance the safe and the efficient use of the navigable airspace in the western Florida area. With the exception of order of points listed in the Q-110 route description, this amendment is the same as that proposed in the NPRM.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies an RNAV route and jet route in Florida.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9R, Airspace Designations and Reporting Points, signed August 15, 2007, and effective September 15, 2007, is amended as follows:

Paragraph 2004 Jet Routes.

* * * * *

J-73 [Amended]

From Dolphin, FL; LaBelle, FL; INT Labelle 314 ° and Lakeland, FL, 162 ° radials; Lakeland; Seminole, FL; La Grange, GA; Nashville, TN; Pocket City, IN; to Northbrook, IL.

* * * * *

Paragraph 2006 United States Area Navigation Routes.

* * * * *

Q-110 THNDR, FL to FEONA, GA [Amended]
THNDR, FL | INT | (Lat. 26°37′38″ N., long. 80°52′00″ W.)
JAYMC, FL | WP | (Lat. 26°58′51″ N., long. 81°22′08″ W.)
RVERO, FL | WP | (Lat. 27°24′35″ N., long. 81°35′57″ W.)
KPASA, FL | WP | (Lat. 28°10′34″ N., long. 81°54′27″ W.)
BRUTS, FL | WP | (Lat. 29°30′58″ N., long. 82°58′57″ W.)
GULFR, FL | WP | (Lat. 30°12′23″ N., long. 83°33′08″ W.)
FEONA, GA | WP | (Lat. 31°36′22″ N., long. 84°43′08″ W.)

* * * * *

Issued in Washington, DC, on July 22, 2008.
Stephen L. Rohring,
Acting Manager, Airspace and Rules Group.

[FR Doc. E8-17389 Filed 7-29-08; 8:45 am]

BILLING CODE 4910-13-P